NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at title 45 part 670 of the Code of Federal Regulations. This is the required notice of a requested permit modification.

DATES: Interested parties are invited to submit written data, comments, or views with respect to this permit application by March 10, 2005. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-8030.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Description of Permit Modification Requested: The Foundation issued a permit (2004-009) to Dr. Robert L. Pitman on January 15, 2004. The issued permit allows the applicant to collect biopsy samples (size of a pencil eraser) of skin and tissue from up to 200 Killer Whales (Orcinus orca). These samples help to determine the taxonomic status of the three different morphotypes of Killer Whales observed in the Antarctic.

The applicant requests a modification to his permit to extend his permit for one year, to cover the full extent of his grant. In addition he wishes to collect skin and tissue samples from up to 10 Minke (Balaenoptera bonaerensis) and 5 Arnoux's beaked whales (Berardius arnouxii). The applicant during his research has identified a species of diatoms on the Killer Whales and is interested to see if the same species of diatoms are present on other whales in the southern Ross Sea. If the diatoms are different from then the samples could provide additional evidence that there is more than one species of Killer Whale in Antarctica.

Location: Waters surrounding Antarctica, including the Ross Sea.

Dates: April 1, 2005, to March 31, 2006.

Polly A. Penhale,
Environmental Officer, Office of Polar Programs.

[FR Doc. 05-2408 Filed 2-7-05; 8:45 am]

BILLING CODE 7555-01-M